DEPARTMENT OF HEALTH AND HUMAN SERVICES

Centers for Medicare & Medicaid Services

42 CFR Parts 405, 412, 422, and 489

[CMS-4105-CN]

RIN 0938-AO41

Medicare Program; Notification of Hospital Discharge Appeal Rights

AGENCY: Centers for Medicare & Medicaid Services (CMS), HHS.

ACTION: Final rule; correction.

SUMMARY: This document corrects a technical error that appeared in the final rule published in the Federal Register on November 27, 2006 entitled “Medicare Program; Notification of Hospital Discharge Appeal Rights.” This document is a supplement to the November 27, 2006 final rule.

DATES: Effective Date: This correction notice is effective on July 1, 2007.

FOR FURTHER INFORMATION CONTACT: Tim Roe, (410) 786-2006.

SUPPLEMENTARY INFORMATION:

I. Background

In FR Doc. E6-20131 of November 27, 2006 (71 FR 68708), there were technical errors that we identify in the “Summary of Errors” section and correct in the “Correction of Errors” section below.

II. Summary of Errors

In the November 27, 2006 final rule, on page 68719, we included a table that contained an incorrect entry in one row, also resulting in an incorrect aggregate burden amount. This notice will correct those errors.

III. Correction of Errors

Make the following corrections to the November 27, 2006 final rule (71 FR 68708):

1. On page 68719, in the table—

A. In the fifth column, in the third entry, change the annual burden hours from “140,834” to “130,000.”

B. In the fifth column, in the fourth entry, change the annual burden hours from “2,914,168” to “2,903,334.”

The revised table should read as follows:

Aggregate Hourly Burden for This Requirement
Notices | Time per delivery (minutes) | Fee-for-service beneficiaries | Managed care enrollees | Annual burden hours
First IM | 11 | 11.3 million | 1.7 million | 2,383,334
Copy of IM | 3 | 6.78 million | 1.02 million | 390,000
Detailed Notice | 60 | 113,000 | 17,000 | 130,000
Total Burden |  |  |  | 2,903,334

2. On page 68719, in the first column, in line 3, change the annual burden hours from 2,914,618 to 2,903,334.

IV. Waiver of Proposed Rulemaking

We ordinarily publish a notice of proposed rulemaking in the Federal Register to provide a period for public comment before the provisions of a rule take effect in accordance with section 553(b) of the Administrative Procedure Act (APA) (5 U.S.C. 553(b)). However, we can waive this procedure if the Secretary finds, for good cause, that the notice and comment process is impracticable, unnecessary, or contrary to the public interest, and incorporates a statement of finding and the reasons therefore in the notice.

The revisions in this document merely correct inadvertent technical errors. The revisions help ensure that the rules governing the Medicare administrative appeals process are more understandable and less ambiguous and protect the rights of all parties to pursue Medicare claims appeals under these procedures. For this reason, and because these technical corrections are not substantive in nature, we find that undertaking notice and comment rulemaking to incorporate these corrections into the final rule is unnecessary and contrary to the public interest.

(Catalog of Federal Domestic Assistance Program No. 93.773, Medicare—Hospital Insurance; and Program No. 93.774, Medicare—Supplementary Medical Insurance Program)

Dated: January 17, 2007.
Ashley Files Flory,
Deputy Executive Secretary to the Department.

[FR Doc. E7-1114 Filed 1-25-07; 8:45 am]

BILLING CODE 4120-01-P